DEPARTMENT OF TRANSPORTATION

Federal Aviation Administration

Fifteenth Meeting: RTCA NextGen Advisory Committee (NAC)

AGENCY: Federal Aviation Administration (FAA), U.S. Department of Transportation (DOT).

ACTION: Fifteenth Meeting Notice of RTCA NextGen Advisory Committee.

SUMMARY: The FAA is issuing this notice to advise the public of the fifteenth meeting of the RTCA NextGen Advisory Committee.

DATES: The meeting will be held June 5, 2015 from 9 a.m. to 3 p.m.

ADDRESSES: The meeting will be held at RTCA Headquarters, NBAA/Colson Conference Rooms 1150, 18th Street NW., Suite 910, Washington, DC 20036.

FOR FURTHER INFORMATION CONTACT: The RTCA Secretariat, 1150 18th Street NW., Suite 910, Washington, DC 20036, or by telephone at (202) 833-9339, fax at (202) 833-9434, or Web site at http://www.rtca.org. Andy Cebula, NAC Secretary can also be contacted at acebula@rtca.org or 202-330-0652.

SUPPLEMENTARY INFORMATION: Pursuant to section 10(a) (2) of the Federal Advisory Committee Act (Pub. L. 92-463, 5 U.S.C., App.), notice is hereby given for a meeting of Special Committee 224. The agenda will include the following:

June 5th

• Opening of Meeting/Introduction of NAC Members—Chairman Richard Anderson, Chief Executive Officer, Delta Air Lines, Inc.

• Official Statement of Designated Federal Official—The Honorable Mike Whitaker, FAA Deputy Administrator

• Review and Approval of February 26, 2015 Meeting Summary

• Chairman's Report—Chairman Anderson

• FAA Report—Mr. Whitaker

• NextGen Integration Working Group (NIWG) Reports—Surface, Performance Based Navigation, Multiple Runway Operations, DataComm

• Harmonization of DataComm

• NACSC Metrics AdHoc Group Report

• NAC ADS-B AdHoc Group Report

• FAA Response to RTCA “Blueprint for Success to Implementing Performance Based Navigation” Recommendation

• Summary of meeting and next steps—DFO and NAC Chairman Closing Comments

• Other business

• Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on May 19th 2015.
Mohannad Dawoud,
Management Analyst, NextGen, Program Oversight and Administration, Federal Aviation Administration.

[FR Doc. 2015-12517 Filed 5-19-15; 4:15 pm]

BILLING CODE 4910-13-P